DEPARTMENT OF AGRICULTURE

Office of the Secretary

Notice of Solicitation of Members to the National Agricultural Research, Extension, Education, and Economics Advisory Board

AGENCY: Research, Education, and Economics, USDA.

ACTION: Solicitation for membership.

SUMMARY: In accordance with the Federal Advisory Committee Act, U.S.C. App., the United States Department of Agriculture announces solicitation for nominations to fill 9 vacancies on the National Agricultural Research, Extension, Education, and Economics Advisory Board.

Correction

In the Federal Register of June 22 2015 (80 FR 35625), in the DATES section, read as follows:

DATES: Deadline for Advisory Board member nominations is August 14 2015.

Yvette Anderson,
Federal Register Liaison Officer.

[FR Doc. 2015-18792 Filed 7-30-15; 8:45 am]

BILLING CODE 3410-03-P